INTERNATIONAL TRADE COMMISSION

[USITC SE-14-041]

Government in the Sunshine Act Meeting Notice

AGENCY HOLDING THE MEETING: United States International Trade Commission.

TIME AND DATE: December 15, 2014 at 11:00 a.m.

PLACE: Room 101, 500 E Street SW., Washington, DC 20436, Telephone: (202) 205-2000.

STATUS: Open to the public.

MATTERS TO BE CONSIDERED: 1. Agendas for future meetings: None.

2. Minutes.

3. Ratification List.

4. Vote in Inv. Nos. 701-TA-512 and 731-TA-1248 (Final) (Carbon and Certain Alloy Steel Wire Rod from China). The Commission is currently scheduled to complete and file its determinations and views of the Commission on December 26, 2014.

5. Outstanding action jackets: None.

In accordance with Commission policy, subject matter listed above, not disposed of at the scheduled meeting, may be carried over to the agenda of the following meeting.

By order of the Commission:
Issued: December 5, 2014.
William R. Bishop,
Supervisory Hearings and Information Officer.

[FR Doc. 2014-29040 Filed 12-8-14; 4:15 pm]

BILLING CODE 7020-02-P